DEPARTMENT OF AGRICULTURE

Foreign Agricultural Service

Agricultural Policy Advisory Committee for Trade and the Agricultural Technical Advisory Committees for Trade; Reestablishment and Nominations.

AGENCY: Foreign Agricultural Service, USDA.

SUMMARY: Notice is hereby given that the Secretary of Agriculture, after consultation with the United States Trade Representative, has reestablished the Agricultural Policy Advisory Committee for Trade (APAC) and the Agricultural Technical Advisory Committees for Trade (ATACs). FAS also announces that nominations are being sought for persons to serve on the APAC and the ATACs.

DATES: Written nominations must be received by the Foreign Agricultural Service before or close of business June 8, 2001.

ADDRESSES: Send all nominating materials to Ms Sharon McClure, Foreign Agricultural Service, USDA, Room 5065-S, STOP 1001, 1400 Independence Avenue, SW., Washington, DC 20250-1001. The forms may also be submitted by fax to (202) 720-8097.

FOR FURTHER INFORMATION CONTACT: Comments regarding the reestablishment of these committees should be addressed to Ms. Sharon McClure, Acting Executive Secretary, Foreign Agricultural Service, USDA, 1400 Independence Avenue, SW., Room 5065-S, Stop 1001, Washington, DC 20250-1001, or Ms. Denise Bell at the same address. Persons interested in serving on the APAC or an ATAC, or in nominating individuals to serve, should contact FAS by telephone (202)-720-6829), fax (202-720-8097), by mail (Ms. Sharon McClure, Foreign Agricultural Service, USDA, 1400 Independence Avenue, SW., Room 5065-S, Stop 1001, Washington, DC 20250-1001) or electronic mail (belld@fas.usda.gov) and request Form AD-755 and Form SF-181. These forms are also available on the Internet at the FAS homepage. For Form AD-755, go to http://www.fas.usda.gov/ad755.pdf. For Form SF-181, go to http://www.fas.usda.gov/admin/ad 1086.

SUPPLEMENTARY INFORMATION: The Agricultural Policy Advisory Committee for Trade (APAC) and the Agricultural Technical Advisory Committees for Trade (ATACs) are authorized by sections 135(c)(1) and (2) of the Trade Act of 1974, as amended (Pub. L. No. 93-618, 19 U.S.C. 2155). The purpose of the committees is to provide advice to the Secretary and the U.S. Trade Representative concerning agricultural trade policy and are intended to ensure that representative elements of the private sector have an opportunity to make known their views to the U.S. Government.

Rechartering

Pursuant to the Federal Advisory Committee Act (5 U.S.C. Appendix), the Foreign Agricultural Service gives notice that the Secretary of Agriculture and the U.S. Trade Representative have reestablished the Agricultural Policy Advisory Committee for Trade (APAC) and the Agricultural Technical Advisory Committees for Trade (ATACs). In 1974, Congress established a private sector advisory committee system to ensure that U.S. trade policy and negotiation objectives adequately reflect U.S. commercial and economic interests. The private sector advisory system now consists of almost 40 committees, arranged in three tiers:

• The President's Advisory Committee on Trade and Policy Negotiations (ACTPN);

• Seven advisory committees, including the APAC, and;

• Over 30 technical advisory committees, including the ATACs. The renewal of such committees is in the public interest in connection with the duties of the U.S. Department of Agriculture (USDA) imposed by the Trade Act of 1974, as amended.

General Committee Information

All APAC and ATAC committee members are appointed by the Secretary of Agriculture and the U.S. Trade Representative (USTR), and serve at the directions of the Secretary and the USTR. To serve and attend committee meetings, members must be U.S. citizens, and have successfully completed a confidential security clearance. Committee members serve without compensation; they are not reimburbsed for their travel expense.

Committee meetings will be open to the public, unless the U.S. Trade Representative determines that the committees will be discussing issues the disclosure of which justify closing a meeting or portions of the meeting, in accordance with 5 U.S.C. 552(c).

All committee appointments expire on May 1, 2003; by the Secretary and USTR may renew an appointment for one or more additional terms.

Each committee has a chairperson, who is elected from the membership of that committee. In addition to their individual responsibilities, all communities are required to meet at the conclusion of negotiations for each trade agreement, and to provide a report on each agreement to the President, Congress, and to the u.S. Trade Representative.

[All meetings will be held in Washington, D.C.]

Agricultural Policy Advisory Committee for Trade (APAC)

The APAC has approximately 50 members, and is composed of a broad spectrum of agricultural interests. It provides advice concerning:

• Negotiating objectives and bargaining positions before the United States enters into a trade agreement;

• The operation of various U.S. trade agreements; and

• Other matters arising from the administration of U.S. trade policy.

Agricultural Technical Advisory Committees for Trade (ATACs)

The ATACs provide advice and information regarding trade issues which affect both domestic and foreign production in the commodities, drawing upon the technical competence and experience of its members. There are five ATACs, one for each of the following sectors:

• Grains, Feed, and Oilseeds;

• Animals and Animal Products;

• Fruits and Vegetables;

• Sweetners and Sweetner Products; and

• Tobacco, Cotton, and Peanuts.

Each ATAC has approximately 25 members, for a total of approximately 125 members.

Nominations and Selection of Members

Nominations are open to all individuals without regard to race, color, religion, sex, national origin, age, mental or physical handicap, marital status or sexual orientation. To ensure that the recommendations of the committees take into account the needs of the diverse groups served by the Department, membership shall include, to the extent practicable, individuals with demonstrated ability to represent minorities, women, and persons with disabilities.

Members are slected primarily for their expertise and knowledge of agriculture trade as it relates to policy and commodity specific products. No person, company, producer, farm organization, trade association, or other entity has a right to representation on a committee. All members serve at the discretion of the Secretary of Agriculture and the U.S. Trade Representative. In making selections, every effort will be made tomaintain balanced representation on the committees: representation from producers, farm and commodity organizations, processors, traders, consumers, as well as geographical balance.

Issued at Washington, D.C. this 1st day of May, 2001.
Dated: May 1, 2001.
Paul W. Fiddick,
Assistant Secretary for Administration.

[FR Doc. 01-11593 Filed 5-8-01; 8:45 am]

BILLING CODE 3410-10-M